DEPARTMENT OF THE TREASURY

Internal Revenue Service

26 CFR Part 1

[REG-115057-20]

RIN 1545-BP98

Mandatory 60-Day Postponement of Certain Tax-Related Deadlines by Reason of a Federally Declared Disaster; Hearing Cancellation

AGENCY: Internal Revenue Service (IRS), Treasury.

ACTION: Cancellation of notice of public hearing on proposed rulemaking.

SUMMARY: This document cancels a public hearing on proposed regulations that relates to the new mandatory 60-day postponement of certain time-sensitive tax-related deadlines by reason of a Federally declared disaster.

DATES: The teleconference public hearing, originally scheduled on Tuesday, March 23, 2021 at 10:00a.m. is cancelled.

FOR FURTHER INFORMATION CONTACT: Regina Johnson of the Publications and Regulations Branch, Legal Processing Division, Associate Chief Counsel (Procedure and Administration) at (202) 317-5177 (not a toll-free number) or at publichearings@irs.gov (REG-115057-20).

SUPPLEMENTARY INFORMATION: A notice of public hearing that appeared in the Federal Register on Wednesday, February 3, 2021 (86 FR 7987) announced that a public hearing was scheduled on Tuesday, March 23, 2021 at 10:00 a.m. as a teleconference public hearing, the Internal Revenue Service Building, 1111 Constitution Avenue NW, Washington, DC. The subject of the public hearing is under section 7508A of the Internal Revenue Code. The public comment period for these regulations expired on March 15, 2021. The notice of hearing instructed those interested in testifying at the public hearing to submit an outline of the topics to be discussed. The outline of topics to be discussed was due by March 15, 2021. As of March 15, 2021, no one has requested to speak. Therefore, the public hearing scheduled for March 23, 2021 at 10:00 a.m. is cancelled.

Crystal Pemberton,
Senior Federal Register Liaison, Publications and Regulations Branch, Legal Processing Division, Associate Chief Counsel, (Procedure and Administration).

[FR Doc. 2021-05871 Filed 3-22-21; 8:45 am]

BILLING CODE 4830-01-P